DEPARTMENT OF ENERGY

Federal Energy Regulatory Commission

[FERC Docket No. PF06-36-000]

Colorado Interstate Gas Company; Notice of Intent To Prepare an Environmental Impact Statement for the Proposed High Plains Expansion Project; Request for Comments on Environmental Issues, and Notice of Site Visit and Open House Meeting Attendance

November 17, 2006.

The staff of the Federal Energy Regulatory Commission (FERC or Commission) will prepare an environmental impact statement (EIS) that discusses the environmental impacts of the High Plains Expansion Project (project) involving construction and operation of by Colorado Interstate Gas Company (CIG) in Weld, Morgan, and Adams Counties, Colorado. These facilities would consist of about 170 miles of 24-inch and 30-inch-diameter pipeline in four separate pipeline segments. The EIS will be used by the Commission in its decision making process to determine if the project is in the public convenience and necessity.

The project is currently in the preliminary stages of design and at this time a formal application has not been filed with the Commission. For this project, the Commission is initiating the National Environmental Policy Act (NEPA) review prior to receiving the formal application. This pre-filing process allows interested stakeholders to become involved early in the project planning and to identify and resolve issues before a formal application is filed with the FERC. A docket number (PF06-36-000) has been established to place information filed by CIG and related documents issued or received by the Commission, into the public record.¹ Once a formal application is filed with the FERC, a new docket number will be established.

¹ To view information in the docket, follow the instructions for using the eLibrary link at the end of this notice.

This notice announces the opening of the scoping period that will be used to gather environmental input from the public and interested agencies on the Project. Please note that the scoping period will close on January 6, 2007. Details on how to submit comments are provided in the Public Participation section of this notice.

This notice is being sent to potentially affected landowners along the Project route; federal, state, and local government agencies; elected officials; environmental and public interest groups; Native American tribes; and local libraries and newspapers.

With this notice, we ² are asking federal, state, and local agencies with jurisdiction and/or special expertise with respect to environmental issues to cooperate with us in the preparation of the EIS. These agencies may choose to participate once they have evaluated the proposal relative to their responsibilities. Agencies which would like to request cooperating status should follow the instructions for filing comments described later in this notice. We encourage government representatives to notify their constituents of this planned project and encourage them to comment on their areas of concern.

² “We,” “us,” and “our” refer to the environmental staff of the Office of Energy Projects.

Some affected landowners may be contacted by a project representative about the acquisition of an easement to construct, operate, and maintain the proposed pipeline. If so, the company should seek to negotiate a mutually acceptable agreement. In the event that the Project is certificated by the Commission, that approval conveys the right of eminent domain for securing easements for the pipeline. Therefore, if easement negotiations fail to produce an agreement, the company could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

CIG is proposing to expand its existing pipeline system along Colorado's Front Range in order to provide additional transportation services to this rapidly growing market. Specifically, CIG is proposing to construct approximately 170 miles of 24-inch and 30-inch-diameter pipeline in four separate pipeline segments in Weld, Morgan, and Adams Counties, Colorado as described below. The general locations of the proposed pipelines are shown in the figure included as Appendix 1 ³.

³ The appendices referenced in this notice are not being printed in the Federal Register. Copies (excluding maps) are available on the Commission's Internet website (http://www.ferc.gov) at the “eLibrary” link or from the Commission's Public Reference Room at (202) 502-8371. For instructions on connecting to eLibrary, refer to the end of this notice.

The Project consists of the following facilities:

• Line 250A—64.5 miles of 30-inch-diameter pipe and 20.5 miles of 24-inch-diameter pipe and 2 interconnect meter station facilities;

• Line 251A—58 miles of 24-inch-diameter pipe and 2 interconnect meter station facilities;

• Line 252A—14.9 miles of 30-inch-diameter pipe and 1 interconnect meter station facility;

• Line 253A—6.1 miles of 24-inch-diameter pipe and 2 interconnect meter station facilities;

• Seven new meter stations and eighteen new block valves; and

• Pig launcher/receivers at the beginning and ending of the four new pipeline segments.

The entire project when completed would carry a total capacity of approximately 874,000 decatherms of gas per day. CIG is requesting approval such that the facilities are completed and put into service by August 2008. CIG proposes to begin construction in February 2008.

Land Requirements for Construction

CIG would use a typical 100-foot-wide construction right-of-way for the project. Additional work area would be required at certain feature crossings (e.g., waterbodies, wetlands, roads, and railroad crossings), staging areas, pipe yards, contractor's yards, and widening of certain access roads.

Based on preliminary information, it is estimated that construction of the proposed facilities would disturb about 2,000 acres of land. Of the 2,000 acres, about 1,000 acres would be temporary disturbed and about 1,000 acres would be permanently maintained for operation of the pipeline within a 50-foot-wide permanent right-of-way, and as aboveground facility sites.

Following construction, all temporary workspaces would be restored and allowed to revert to its former use.

The EIS Process

The FERC will be the lead federal agency for the preparation of the EIS. NEPA requires the FERC to take into account the environmental impacts that could result from an action when it considers whether or not an interstate natural gas pipeline should be approved. The Commission will use the EIS to consider the environmental impacts that could result if the project is authorized under section 7 of the Natural Gas Act. NEPA also requires us to identify and address concerns the public may have about proposals to be considered by the Commission. This process is referred to as “scoping.” The main goal of the scoping process is to focus the analysis in the EIS on important environmental issues and reasonable alternatives. By this Notice of Intent (NOI), the Commission staff requests agency and public comments on the scope on the issues to be addressed in the EIS. All comments received will be considered during the preparation of the EIS.

Although no formal application has been filed, the FERC Staff have already initiated a NEPA review under the FERC's Pre-Filing Process, which was established in Docket No. PF06-36-000. The purpose of the Pre-Filing Process is to seek public and agency input early in the project planning phase and encourage involvement by interested stakeholders in a manner that allows for the early identification and resolution of environmental issues. As part of the Pre-Filing Process review, FERC staff representatives will participate in an interagency scoping meeting in the project area to solicit comments and concerns about the project from other jurisdictional agencies.

With this notice, the Commission requests federal, state, and local government agencies with jurisdiction and/or special expertise with the respect to environmental issues to express their interest in becoming cooperating agencies for the preparation of the EIS. These agencies may choose to participate once they have evaluated the proposal relative to their responsibilities. Agencies that would like to request cooperating status should send a letter expressing that interest and expected level of involvement to the Secretary of the Commission at the address provided in the public participation section of this notice.

The FERC's independent analysis of the issues will be included in a draft EIS. The draft EIS will be mailed to federal, state, and local government agencies; elected officials; environmental and public interest groups; Native American tribes; affected landowners; other interested parties; local libraries and newspapers; and the FERC's official service list for this proceeding. A comment period will be allotted for review of the draft EIS. We will consider all timely comments on the draft EIS and revise the document, as necessary, before issuing a final EIS.

Currently Identified Environmental Issues

We have already identified a number of issues and alternatives that they think deserve attention based on a preliminary review of the proposed facilities and information provided by CIG. This preliminary list of potential issues and alternatives may be changed based on your comments and our analysis.

Geology and Soils

• Impact on agricultural lands and irrigation and canal systems.

• Impacts on unconsolidated soils with severe erosion potential.

• Assessment of potential geological hazards.

• Evaluation of noxious weed control.

• Construction in steep terrain.

Water Resources

• Potential effects on groundwater resources.

• Impact of open-cut crossings of irrigation canals and the South Platte River.

• Effect of pipeline crossings on wetlands and perennial and intermittent waterbodies.

• Assessment of hydrostatic test water sources and discharge locations.

• Water depletions resulting from hydrostatic test water appropriations.

Fish, Wildlife, and Vegetation

• Effect on fish and wildlife resources and their habitat, including federally and state-listed threatened and endangered species.

• Assessment of construction time window restrictions.

• Assessment of measures to successfully revegetate the right-of-way.

Cultural Resources

• Effect on known and undiscovered cultural resources.

• Native American and tribal concerns.

Land Use, Recreation and Special Interest Areas, and Visual Resources

• Impacts on residences, including proximity of facilities to existing structures.

• Potential land use conflicts with planned and future development.

• Permanent land use alteration associated with pipeline easements.

Socioeconomics

• Benefits to local communities.

• Effects of construction workforce demands on public services and temporary housing.

Air Quality and Noise

• Effects on local air quality and noise environment from construction and operation of the proposed facilities.

Reliability and Safety

• Assessment of hazards associated with natural gas pipelines.

• Assessment of security associated with operation of natural gas facilities.

Alternatives

• The No-Action alternative.

• System alternatives.

• Route alternatives.

Cumulative Impact

• Assessment of the effect of the proposed project when combined with other actions in the same region.

Public Participation

You are encouraged to become involved in this process and provide your specific comments or concerns about CIG's proposal. Your comments should focus on the potential environmental effects, reasonable alternatives, and measures to avoid or lessen environmental impacts. The more specific your comments, the more useful they will be. If you wish to mail comments, please mail your comments so that they will be received in Washington, DC on or before January 6, 2007 and carefully follow these instructions:

• Send an original and two copies of your letter to: Magalie R. Salas, Secretary, Federal Energy Regulatory Commission, 888 First Street, NE., Room 1A, Washington, DC 20426.

• Label one copy of your comments for the attention of Gas 2, DG2E; and

• Reference Docket No. PF06-36-000 on the original and both copies.

• Mail your comments so that they will be received in Washington, DC, on or before January 6, 2007.

Please note that we are continuing to experience delays in mail deliveries from the U.S. Postal Service. As a result, we will include all comments that we receive within a reasonable time frame in our environmental analysis of this project. However, the Commission strongly encourages electronic filing of any comments to this proceeding. See 18 CFR 385.2001(a)(1)(iii) and the instructions on the Commission's Web site at http://www.ferc.gov under the “e-Filing” link and the link to the User's Guide. Before you can file comments, you will need to open a free account which can be created on-line.

CIG is sponsoring public open house meetings to provide the public with information about the proposed project. The dates, times, and locations of the open house meeting are listed in the table below. FERC staff will be in attendance. For information about the open house meetings and the site visit, please contact this CIG representative: Jeff Voltattorni at 719-351-9682.

Date and time | Location
Tuesday, November 28, 2006, 5:30 p.m. to 8 p.m. (MST) | Ault High School, 208 W. 1st Street, Ault, Colorado 80610, Phone: (970) 834-2816
Wednesday, November 29, 2006, 5:30 p.m. to 8 p.m. (MST) | Country Steak Out, 19592 8th Ave., Fort Morgan, Colorado 80701, Phone: (970) 867-7887
Thursday, November 30, 2006, 5:30 p.m. to 8 p.m. (MST) | Bella Sera Center, 45 Strong Street, Brighton, Colorado 80601, Phone: (720) 937-6337

In addition to the public open house meetings, the FERC will conduct site visits to view the proposed pipeline routes. The public may participate in the site visits. No transportation will be provided. Details regarding the tours are provided below.

Date and start time | Location | Facilities reviewed
November 29, 2006, 8 a.m. (MST) | Cheyenne Compressor Station, 65657 Highway 85, Carr, Colorado 80612 | Line 250A, Line 252A, and northeast portion of Line 251A
November 30, 2006, 8 a.m. (MST) | Watkins Compressor Station, 24650 East Smith Road, Aurora, Colorado 80019 | Southwestern portion of Line 251A and Line 253A

Environmental Mailing List

If you do not want to send comments at this time, but still want to remain on our environmental mailing list, please return the attached Mailing List Retention Form (Appendix 2). If you do not return the form, or you do not file a comment on this project, you will be taken off the environmental mailing list.

To reduce printing and mailing costs, the draft and final EISs will be issued in both CD-ROM and hard copy formats. The FERC strongly encourages the use of CD-ROM format in its publication of large documents. If you wish to receive a paper copy of the draft EIS instead of a CD-ROM, you must indicate that choice on the return Mailing List Retention Form (Appendix 2).

Availability of Additional Information

Additional information about the Project is available from the FERC's Office of External Affairs at 1-866-208-FERC or on the FERC Internet Web site (http://www.ferc.gov) using the eLibrary link. Click on the eLibrary link, click on “General Search,” and enter the docket number excluding the last three digits in the Docket Number field (i.e., PF06-36). Be sure you have selected an appropriate date range. For assistance, please contact FERC Online Support at FERCOnlineSupport@ferc.gov or toll free at 1-866-208-3676, or for TTY, contact (202) 502-8659. The eLibrary link on the FERC Internet Web site also provides access to the text of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to the eSubscription link on the FERC Internet website.

Magalie R. Salas,
Secretary.

[FR Doc. E6-19949 Filed 11-24-06; 8:45 am]

BILLING CODE 6717-01-P